DEPARTMENT OF COMMERCE

National Oceanic and Atmospheric Administration

[I.D. 103006A]

Endangered Species; File No. 1547

AGENCY: National Marine Fisheries Service (NMFS), National Oceanic and Atmospheric Administration (NOAA), Commerce.

ACTION: Notice; issuance of permit.

SUMMARY: Notice is hereby given that the New York State Department of Environmental Conservation (Kathryn Hattala, Principal Investigator), 21 South Putt Corners Road; New Paltz, NY 12561 has been issued a permit to conduct scientific research on shortnose sturgeon (Acipenser brevirostrum).

ADDRESSES: The permit and related documents are available for review upon written request or by appointment in the following offices:

Permits, Conservation and Education Division, Office of Protected Resources, NMFS, 1315 East-West Highway, Room 13705, Silver Spring, MD 20910; phone (301)713-2289; fax (301)713-0376; and

Northeast Region, NMFS, One Blackburn Drive, Gloucester, MA 01930-2298; phone (978) 281-9328; fax (978) 281-9394.

FOR FURTHER INFORMATION CONTACT: Malcolm Mohead or Carrie Hubard, (301) 713-2289.

SUPPLEMENTARY INFORMATION: On August 08, 2005, notice was published in the Federal Register (70 FR 45701) that a request for a scientific research permit to take shortnose sturgeon had been submitted by the New York State Department of Environmental Conservation (NYSDEC). The requested permit has been issued under the authority of the Endangered Species Act of 1973, as amended (ESA; 16 U.S.C. 1531 et seq.) and the regulations governing the taking, importing, and exporting of endangered and threatened species (50 CFR parts 222-226).

In order to evaluate seasonal movement of shortnose sturgeon in Haverstraw and Newburgh Bays of the Hudson river, the NYSDEC is authorized annually to capture a maximum of 500 adult and juvenile shortnose sturgeon with gill nets, and to measure, weigh, scan for tags, insert passive integrated transponder tags and Carlin tags (if untagged) and then release.

Issuance of this permit, as required by the ESA, was based on a finding that such permit (1) was applied for in good faith, (2) will not operate to the disadvantage of the endangered species which is the subject of this permit, and (3) is consistent with the purposes and policies set forth in section 2 of the ESA.

Dated: November 2, 2006.
P. Michael Payne,
Chief, Permits, Conservation and Education Division, Office of Protected Resources, National Marine Fisheries Service.

[FR Doc. E6-18868 Filed 11-7-06; 8:45 am]

BILLING CODE 3510-22-S